Memorandum of August 26, 2022

Delegation of Authority Under Section 614(a)(1) of the Foreign Assistance Act of 1961

Memorandum for the Secretary of State

By the authority vested in me as President by the Constitution and the laws of the United States of America, including section 621 of the Foreign Assistance Act of 1961 (FAA), in order to provide assistance to advance food security and energy resilience and to counter the People's Republic of China's efforts, I hereby delegate to the Secretary of State the authority under section 614 (a) (1) of the FAA to determine whether it is important to the security interests of the United States to furnish up to $205 million from the Economic Support Fund under Title IX of the Department of State, Foreign operations, and Related Programs Appropriations Act, 2021 (Division K of Public Law 116-260), without regard to any provision of law within the purview of section 614 (a) (1) of the FAA.

You are authorized and directed to publish this memorandum in the Federal Register.

THE WHITE HOUSE,

Washington, August 26, 2022

[FR Doc. 2022-19370

Filed 9-2-22; 11:15 am]

Billing code 4710-10-P